NATIONAL SCIENCE FOUNDATION

Agency Information Collection Activities: Comment Request

AGENCY: National Science Foundation.

ACTION: Notice.

SUMMARY: The National Science Foundation (NSF) is announcing plans to request reinstatement and approval of this data collection. In accordance with the requirement of section 3506(c)(2)(A) of the Paperwork Reduction Act of 1995, we are providing opportunity for public comment on this information collection.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by July 23, 2007 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: FY 2007 and FY 2009 Survey for Science and Engineering Research Facilities.

Expiration Date of Approval: April 31, 2006.

Type of Request: Intent to seek approval to reinstate an information collection for three years.

Proposed Project: The National Science Foundation Survey of Science and Engineering Research Facilities is a Congressionally mandated (Public Law 99-159), biennial survey that has been conducted since 1986. The survey collects data on cyberinfrastructure and on the amount, condition, and costs of the physical facilities used to conduct science and engineering research. It was expected by Congress that this survey would provide the data necessary to describe the status and needs of science and engineering research facilities and to formulate appropriate solutions to documented needs. During the FY 2003 and FY 2005 survey cycles, data were collected from a population of approximately 475 research-performing colleges and universities. This survey population was supplemented with approximately 190 nonprofit biomedical research institutions receiving research support from the National Institutes of Health. Beginning with the FY 2003 cycle, a new section was added to the survey requesting information on the computing and networking capacity at the surveyed institutions, an increasingly important part of the infrastructure for science and engineering research. Other important changes include updating the networking and computing section, based on technological changes that may occur.

Use of the Information: Analysis of the Facilities Survey data will provide updated information on the status of scientific and engineering research faculties and capabilities. The information can be used by Federal policy makers, planners, and budget analysts in making policy decisions, as well as by institutional academic officials, the scientific/engineering establishment, and state agencies and legislatures that fund universities.

Burden on the Public: The Facilities Survey will be sent by mail to approximately 475 academic institutions and 190 nonprofit research organizations and hospitals. The completion time per academic institution is expected to average 41 hours and the completion time per research organization/hospitals is expected to average 5 hours. Assuming a 94% response rate, this would result in an estimated burden of 18,307 hours for academic institutions and 895 hours for nonprofit research organizations/hospitals.

Dated: May 16, 2007.
Suzanne H. Plimpton,
Reports Clearance Officer, National Science Foundation.

[FR Doc. 07-2550 Filed 5-22-07; 8:45 am]

BILLING CODE 7555-01-M